DEPARTMENT OF LABOR

Employment and Training Administration

[TA-W-52,710]

Conso International Corp., Union, SC; Notice of Termination of Investigation

Pursuant to section 221 of the Trade Act of 1974, an investigation was initiated on September 2, 2003, in response to a worker petition which was filed by a company official on behalf of workers at Conso International Corporation, Union, South Carolina (TA-W-52,710).

There is a duplicate petition in process for the same worker group (TA-W-52,722). Consequently, further investigation in this case would serve no purpose, and the investigation has been terminated.

Signed in Washington, DC, this 15th day of September, 2003.
Linda G. Poole,
Certifying Officer, Division of Trade Adjustment Assistance.

[FR Doc. 03-26481 Filed 10-20-03; 8:45 am]

BILLING CODE 4510-30-P